FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 4, 2004.

A. Federal Reserve Bank of Chicago (Patrick M. Wilder, Managing Examiner) 230 South LaSalle Street, Chicago, Illinois 60690-1414:

1. John R. Barlow, Mound, Minnesota, and Cinda Mae Classon, Dows, Iowa; to retain 26.16 percent of the voting shares of Barlow Banking Corporation, Iowa Falls, Iowa, and thereby indirectly acquire voting shares of Iowa Falls State Bank, Iowa Falls, Iowa.

B. Federal Reserve Bank of Kansas City (James Hunter, Assistant Vice President) 925 Grand Avenue, Kansas City, Missouri 64198-0001:

1. Robert D. Hanhardt, as trustee of the Hanhardt Family Trust; to acquire additional voting shares of NSB Bancshares, Inc., and thereby indirectly acquire additional voting shares of Nekoma State Bank, both of LaCrosse, Kansas.

Board of Governors of the Federal Reserve System, February 13, 2004.
Robert deV. Frierson,
Deputy Secretary of the Board.

[FR Doc. 04-3665 Filed 2-19-04; 8:45 am]

BILLING CODE 6210-01-S